DEPARTMENT OF COMMERCE

National Oceanic and Atmospheric Administration

[RTID 0648-XE627]

Pacific Fishery Management Council; Public Meeting

AGENCY: National Marine Fisheries Service (NMFS), National Oceanic and Atmospheric Administration (NOAA), Commerce.

ACTION: Notice of public meeting.

SUMMARY: The Pacific Fishery Management Council's (Pacific Council) Coastal Pelagic Species (CPS) Subcommittee of the Scientific and Statistical Committee (SSC) will hold an online meeting. This meeting is open to the public.

DATES: The online meeting will be held Wednesday, February 26, 2025, from 9 a.m. to 1 p.m., Pacific standard time (PST) or until business for the day has been completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Ms. Katrina Bernaus, Staff Officer, Pacific Council; telephone: (503) 820-2420; email: katrina.bernaus@noaa.gov.

SUPPLEMENTARY INFORMATION: The CPS Subcommittee will review the draft update stock assessment for Pacific sardine in preparation for full SSC and Pacific Council review at the April 2025 Pacific Council meeting. The Subcommittee will also discuss a correlation analysis between CalCOFI-based temperature and sardine population dynamics. At its April 2025 meeting, the Pacific Council is scheduled to use the update stock assessment and any new information regarding the CalCOFI temperature relationship to set harvest specifications and management measures for the 2025-2026 Pacific sardine fishery.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: January 27, 2025.
Rey Israel Marquez,
Acting Deputy Director, Office of Sustainable Fisheries, National Marine Fisheries Service.

[FR Doc. 2025-01976 Filed 1-29-25; 8:45 am]

BILLING CODE 3510-22-P